FEDERAL MARITIME COMMISSION

[Docket No. 02-03]

Canaveral Port Authority- Possible Violations of Section 10(b)(10), Unreasonable Refusal to Deal or Negotiate; Notice of Show Cause Proceeding

Correction

In notice document 02-6078 appearing on page 13336 in the issue of Wednesday, March 13, 2002, make the following correction:

On page 13336, in the third column, in the fourth full paragraph, in the third line from the bottom, “thnsp;502.72” should read § 502.72.

[FR Doc. C2-6078 Filed 4-4-02; 8:45 am]

BILLING CODE 1505-01-D

NUCLEAR REGULATORY COMMISSION

Yucca Mountain Review Plan, NUREG-1804, Revision 2,; Draft Report for Comment

Correction

In notice document 02-7606 beginning on page 16257, in the issue of Friday, March 29, 2002, make the following correction:

On page 16257, in the third column, under the DATES: heading, in the third line, “March 29, 2002” should read “June 27, 2002”.

[FR Doc. C2-7606 Filed 4-4-02; 8:45 am]

BILLING CODE 1505-01-D